DEPARTMENT OF HEALTH AND HUMAN SERVICES

Centers for Disease Control and Prevention

Breast and Cervical Cancer Early Detection and Control Advisory Committee

In accordance with section 10(a)(2) of the Federal Advisory Committee Act (Pub. L. 92-463), the Centers for Disease Control and Prevention (CDC) announces the following committee meeting:

Name: Breast and Cervical Cancer Early Detection and Control Advisory Committee (BCCEDCAC).

Times and Dates: 8:30 a.m.-5 p.m., June 22, 2006. 8:30 a.m.-1 p.m., June 23, 2006.

Place: The Westin Atlanta Airport, 4736 Best Road, College Park, Georgia 30337, telephone 404-762-7676.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters to be Discussed: The agenda will include an overview, discussion, and review of the 60/40 provision; using 60/40 to calculate a request for award and the budget; impact of 60/40 award recommendations; waiving the 60/40 requirements; distributing fewer dollars for the first time, and an update/overview of breast cancer in 2006.

Agenda items are subject to change as priorities dictate.

For Further Information Contact: Debra Younginer, Designated Federal Officer, BCCEDCAC, Division of Cancer Prevention and Control, National Center for Chronic Disease Prevention and Health Promotion, CDC, 4770 Buford Highway, Mailstop K-57, Chamblee, Georgia 30316, Telephone: 770-488-1074.

The Director, Management Analysis and Services Office, has been delegated the authority to sign Federal Register notices pertaining to announcements of meetings and other committee management activities for both CDC and the Agency for Toxic Substances and Disease Registry.

Dated: June 2, 2006.
Alvin Hall,
Director, Management Analysis and Services Office, Centers for Disease Control.

[FR Doc. E6-8911 Filed 6-7-06; 8:45 am]

BILLING CODE 4163-18-P